DEPARTMENT OF COMMERCE

National Oceanic and Atmospheric Administration

Science Advisory Board (SAB)

AGENCY: Office of Oceanic and Atmospheric Research (OAR), National Oceanic and Atmospheric Administration (NOAA), Department of Commerce (DOC).

ACTION: Notice of Open Meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Tuesday, July 23, 2013 from 2:00 p.m. to 5:00 p.m. EDT and Wednesday, July 24, 2013 from 1:00 p.m. to 4:05 p.m. EDT. These times and the agenda topics described below are subject to change. Please refer to the Web page http://www.sab.noaa.gov/Meetings/meetings.html for the most up-to-date meeting agenda.

Place: Conference call. Public access is available at 1315 East-West Highway, Room 11836 in Silver Spring, MD. Please check the SAB Web site http://www.sab.noaa.gov/Meetings/meetings.html for address and directions to the meeting location. Members of the public will not be able to dial in to this meeting.

Status: The meeting will be open to public participation with a 10 minute public comment period on July 24 from 1:05-1:15 p.m. (check Web site to confirm time). The SAB expects that public statements presented at its meetings will not be repetitive of previously submitted verbal or written statements. In general, each individual or group making a verbal presentation will be limited to a total time of two (2) minutes. Individuals or groups planning to make a verbal presentation should contact the SAB Executive Director by July 17, 2013 to schedule their presentation. Written comments should be received in the SAB Executive Director's Office by July 17, 2013 to provide sufficient time for SAB review. Written comments received by the SAB Executive Director after July 17, 2013 will be distributed to the SAB, but may not be reviewed prior to the meeting date. Seating at the meeting will be available on a first-come, first-served basis.

Special Accommodations: These meetings are physically accessible to people with disabilities. Requests for special accommodations may be directed no later than 12 p.m. on July 17, 2013, to Dr. Cynthia Decker, SAB Executive Director, SSMC3, Room 11230, 1315 East-West Hwy., Silver Spring, MD 20910.

Matters To Be Considered: The meeting will include the following topics: (1) NOAA Response to the SAB Review of the Ocean Exploration and Research Program; (2) NOAA Social Science Needs Assessment; (3) Terms of Reference and Membership Approach for Gulf Coast Ecosystem Restoration Science Program Advisory Working Group; (4) National Academy of Public Administration Report: Forecasting the Future-Assuring the Capacity of the National Weather Service; (5) Arctic Policy and Management; (6) Arctic Science; (7) Climate Working Group-Proposed Change in Terms of Reference and Working Group Update; (8) Ecosystem Sciences and Management Working Group-Proposed New Member and Working Group Update; (9) Environmental Information Services Working Group-Membership and Working Group Update; and (10) Updates from Data Archive and Access Requirements and Ocean Exploration Advisory Working Groups.

FOR FURTHER INFORMATION CONTACT: Dr. Cynthia Decker, Executive Director, Science Advisory Board, NOAA, Rm. 11230, 1315 East-West Highway, Silver Spring, Maryland 20910. (Phone: 301-734-1156, Fax: 301-713-1459. Email: Cynthia.Decker@noaa.gov; or visit the NOAA SAB Web site at http://www.sab.noaa.gov.

Dated: June 20, 2013.
Jamie Krauk,
Acting Chief Financial Officer/Chief Administrative Officer, Office of Oceanic and Atmospheric Research, National Oceanic and Atmospheric Administration.

[FR Doc. 2013-15279 Filed 6-25-13; 8:45 am]

BILLING CODE 3510-KD-P